NATIONAL AERONAUTICS AND SPACE ADMINISTRATION

[Notice (08-071)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: October 9, 2008.

FOR FURTHER INFORMATION CONTACT: Bryan A. Geurts, Patent Counsel, Goddard Space Flight Center, Mail Code 140.1, Greenbelt, MD 20771-0001; telephone (301) 286-7351; fax (301) 286-9502.

NASA Case No. GSC-15349-1: Multiple Frequency Optical Mixer and Demultiplexer and Apparatus for Remote Sensing;

NASA Case No. GSC-15483-1: A Method and Apparatus for Relative Navigation Using Reflected GPS Signals;

NASA Case No. GSC-15136-1: Blocking Contacts for N-Type Cadmium Zinc Telluride;

NASA Case No. GSC-15470-1: Broadband Planar Magic-T with Low-Phase and Amplitude Imbalance.

Dated: October 3, 2008.
Michael C. Wholley,
General Counsel.

[FR Doc. E8-24059 Filed 10-8-08; 8:45 am]

BILLING CODE 7510-13-P